DEPARTMENT OF AGRICULTURE

Forest Service

Superior Resource Advisory Committee

AGENCY: Forest Service, Agriculture (USDA).

ACTION: Notice of meeting.

SUMMARY: The Superior Resource Advisory Committee (RAC) will hold two virtual meetings by telephone conference. The committee is authorized under the Secure Rural Schools and Community Self-Determination Act (the Act) and operates in compliance with the Federal Advisory Committee Act. The purpose of the committee is to improve collaborative relationships and to provide advice and recommendations to the Forest Service concerning projects and funding consistent with Title II of the Act as well as to make recommendations on recreation fee proposals for sites on the Superior National Forest, consistent with the Federal Lands Recreation Enhancement Act. RAC information and virtual meeting information can be found at the following website: https://www.fs.usda.gov/main/superior/workingtogether/advisorycommittees.

DATES: The meetings will be held on June 22, 2022, from 9:00 a.m.-4:00 p.m. and June 29, 2022, from 9:00 a.m.-12:00 p.m., Central Daylight Time.

All RAC meetings are subject to cancellation. For status of the meeting prior to attendance, please contact the person listed under FOR FURTHER INFORMATION CONTACT.

ADDRESSES: The meetings are open to the public and will be held virtually via telephone conference. Members of the public may participate in the June 22nd meeting by dialing 1-202-650-0123, access code 529377190#. Members of the public may participate in the June 29th meeting by dialing 1-202-650-0123, access code 50691463#.

Written comments may be submitted as described under SUPPLEMENTARY INFORMATION. All comments, including names and addresses when provided, are placed in the record and are available for public inspection and copying. The public may inspect comments received upon request.

FOR FURTHER INFORMATION CONTACT: Mike Crotteau, Designated Federal Officer (DFO), by phone at (218) 387-3205 or email at michael.crotteau@usda.gov or Cathy Quinn, RAC Coordinator, at (218) 387-3240 or email at cathleen.quinn@usda.gov.

Individuals who use telecommunication devices for the deaf and hard of hearing (TDD) may call the Federal Relay Service (FRS) at 1-800-877-8339, 24 hours a day, every day of the year, including holidays. Persons with disabilities who require alternative means of communication for program information (e.g., Braille, large print, audiotape, American Sign Language, etc.) should contact the responsible Agency or USDA's TARGET Center at (202) 720-2600 (voice and TTY). Additionally, program information may be made available in languages other than English.

SUPPLEMENTARY INFORMATION: The purpose of the meetings are to:

1. Allow oral statements from the public; and

2. Continue to review and vote on requests for project proposals.

The meetings are open to the public. The agenda will include time for people to make oral statements of three minutes or less. Individuals wishing to make an oral statement should make a request in writing at least three days prior to the meeting dates to be scheduled on the agenda. Anyone who would like to bring related matters to the attention of the committee may file written statements with the committee staff before or after the meeting. Written comments and requests for time for oral comments must be sent to Cathy Quinn, 2020 West Highway 61, Grand Marais, MN 55604 or by email to cathleen.quinn@usda.gov.

USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Equal opportunity practices in accordance with USDA's policies will be followed in all appointments to the Committee. To ensure that the recommendations of the Committee have taken in account the needs of the diverse groups served by USDA, membership shall include to the extent possible, individuals with demonstrated ability to represent minorities, women, and persons with disabilities. USDA is an equal opportunity provider, employer, and lender.

Dated: June 2, 2022.
Cikena Reid,
USDA Committee Management Officer.

[FR Doc. 2022-12257 Filed 6-6-22; 8:45 am]

BILLING CODE 3411-15-P